DEPARTMENT OF THE INTERIOR

National Park Service

Notice of Availability for the Record of Decision on the Final General Management Plan and Environmental Impact Statement, Pipestone National Monument, MN

AGENCY: National Park Service, Department of the Interior.

ACTION: Notice of Availability for the Record of Decision on the Final General Management Plan and Environmental Impact Statement, Pipestone National Monument, Minnesota.

SUMMARY: Pursuant to Section 102(2)(C) of the National Environmental Policy Act of 1969 (42 U.S.C. 4332(C)), the National Park Service (NPS) announces the availability of the Record of Decision (ROD) for the Final General Management Plan and Environmental Impact Statement (GMP/EIS), Pipestone National Monument (national monument), Minnesota. On September 30, the Midwest Regional Director approved the ROD for the project. As soon as practicable, the NPS will begin to implement the preferred alternative contained in the final EIS.

The NPS will implement the preferred alternative as described in the Final GMP/EIS issued on March 28, 2008. Alternative 1, the preferred alternative, will reduce the development in the heart of the national monument, preserving its setting, site history, and spiritual significance as the source of pipestone. The NPS will remove the visitor center and parking, enabling visitors to see the site much as it appeared prior to 1937. The national monument will acquire a parcel of school district land to the northeast and will seek a cooperative agreement with the U.S. Fish and Wildlife Service and the Minnesota Department of Natural Resources to coordinate management of the 100-acre Pipestone Wildlife Management Area. American Indian ceremonial use of the Three Maidens area will be unchanged. The Hiawatha Club will continue to use the Three Maidens as a backdrop for its pageant under permit restrictions, and the area will be restored to prairie. Sun Dances will continue, but modifications of use might be made on the basis of impact and the sustainability of resources. Quarries will continue to be allocated by permit.

The GMP/EIS evaluated this course of action and two other action alternatives, and a no action alternative. The full range of foreseeable environmental consequences were assessed and appropriate mitigating measures were identified.

The ROD includes a statement of the decision made, synopses of other alternatives considered, the basis for the decision, a description of the environmentally preferable alternative, a finding on impairment of park resources and values, a listing of measures to minimize environmental harm, and an overview of public involvement in the decisionmaking process.

FOR FURTHER INFORMATION CONTACT: Superintendent Glen Livermont, 36 Reservation Avenue, Pipestone, Minnesota 56164-1269, or by calling 507-825-5464. Copies of the ROD are available upon request from the above address or may be viewed online at http://parkplanning.nps.gov/pipe.

Dated: September 30, 2008.
Ernest Quintana,
Regional Director, Midwest Region.

[FR Doc. E8-28671 Filed 12-2-08; 8:45 am]

BILLING CODE 4312-AA-P